DEPARTMENT OF ENERGY

Federal Energy Regulatory Commission

[Docket No. EL03-119-000]

GridAmerica Companies; Notice of Initiation of Proceeding and Refund Effective Date

May 2, 2003.

Take notice that on April 30, 2003, the Commission issued an order in the above-indicated docket initiating a proceeding in Docket No. EL03-119-000 under Section 206 of the Federal Power Act.

The refund effective date in Docket No. EL03-119-000 will be 60 days after publication of this notice in the Federal Register.

Magalie R. Salas,
Secretary.

[FR Doc. 03-11504 Filed 5-7-03; 8:45 am]

BILLING CODE 6717-01-P